DEPARTMENT OF COMMERCE

Census Bureau

Agency Information Collection Activities; Submission to the Office of Management and Budget (OMB) for Review and Approval; Comment Request; Census Household Panel

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection of the Census Household Panel prior to the submission of the information collection request (ICR) to OMB for approval.

DATES: To ensure consideration, comments regarding this proposed information collection must be received on or before April 7, 2023.

ADDRESSES: Interested persons are invited to submit written comments by email to adrm.pra@census.gov. Please reference Census Household Panel in the subject line of your comments. You may also submit comments, identified by Docket Number USBC-2022-0026, to the Federal e-Rulemaking Portal: https://www.regulations.gov. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Cassandra Logan, Survey Director, 301-763-1087 and cassandra.logan@census.gov.

SUPPLEMENTARY INFORMATION:

I. Abstract

Early research and development work has demonstrated the value of a high-quality panel to improve representativeness and significantly reduce burden on households in the interests of collecting high-frequency data. This notice outlines plans for the development of the Census Household Panel consisting of a pool of households carefully selected and recruited by the Census Bureau to reflect the diversity of our Nation's population. Panel participants will opt in to respond to different survey requests—or importantly, to participate in the same survey over time to produce longitudinal data that measure change over time. Development of this Panel at the Census Bureau allows the agency to draw representative samples accurately and quickly, responding to the need for timely insights on an array of topics and improving data outputs inclusive of historically undercounted populations.

The initial goal for the size of the Panel is 15,000 panelists and households selected for the Panel will come from the Census Bureau's gold standard Master Address File. This ensures the Panel is rooted in this rigorously developed and maintained frame and available for linkage to administrative records securely maintained and curated by the Census Bureau. Initial invitations to enroll in the Panel will be sent by mail and questionnaires will be mainly internet self-response. The Panel will maintain representativeness by allowing respondents who do not use the internet to respond via in-bound computer-assisted telephone interviewing (CATI). All panelists will receive an incentive for each complete questionnaire. Periodic replenishment samples will maintain representativeness and panelists will be replaced after a period of three years.

This Panel will become integral to rapidly providing insight on national events that may impact social, economic, or demographic characteristics of the population. Traditionally, Federal surveys are designed to collect and disseminate data on a slower timetable to produce statistically robust key measures of the society and economy. In keeping with growing needs for more timely information, however, the Census Bureau seeks to complement these important, established surveys with new mechanisms such as the Census Household Panel which can produce data much closer to real time as the events develop. The Panel will also help us research questions related to surveys. For example, this Panel will allow us to conduct nationally representative field tests to test content changes in an efficient and reliable fashion in support of other surveys. We also will look at alternative methods for enhancing data with administrative and other external data sources and developed modeled data. The Panel will provide a critical platform for developing adaptive design procedures that use auxiliary data sources. Adaptive design has proven to reduce costs, improve data quality, and maintain and improve representativeness in the data we collect and use.

Leveraging its experience reaching and engaging households, and its reputation for statistical rigor and transparency in the production of Federal statistics, the Census Bureau will build the Census Household Panel in-house in a manner that affords users a full understanding of the methodology in keeping with Federal statistical standards, including response rates and weighting. This transparency into the way in which the statistics are developed will provide Federal agencies the confidence necessary to use the data in their policy making.

II. Method of Collection

The Census Bureau will conduct this information collection online using Qualtrics as the data collection platform. Qualtrics currently is used at the Census Bureau for research and development surveys and provides the necessary agility to deploy the Census Household Panel quickly and securely. It operates in the Gov Cloud, is FedRAMP authorized at the moderate level, and has an Authority to Operate from the Census Bureau to collect personally identifiable and Title-protected data. Panelists will be able to respond online and by inbound CATI (computer-assisted telephone interviewing). Inbound CATI will be used for respondents who do not want to or cannot complete questionnaires online. Outbound CATI nonresponse follow-up will also be conducted. Panel recruitment will consist of mail contacts and telephone follow-up, with the possibility of personal visit.

The sample will be drawn from the Census Bureau's Master Address File. The sampling plan will be provided in the Supporting Statements. Participants will be enrolled via a screener and a baseline questionnaire. Following enrollment, participants will be invited to complete monthly topical surveys. Incentives will be provided to respondents and the strategy for incentives will be outlined in the Supporting Statements.

III. Data

OMB Control Number: 0607-XXXX.

Form Number(s): Not yet determined.

Type of Review: Regular submission, New Information Collection Request.

Affected Public: Individuals or households.

Estimated Number of Respondents: 15,000.

Estimated Time per Response: 5 minutes for screening each of 75,000 initial sample (6,250 hours) and 20 minutes per response monthly per respondent for a maximum of 4 hours per respondent per year (60,000 hours).

Estimated Total Annual Burden Hours: 66,250 per year.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Data collection from the Panel for Census Bureau sponsored surveys is authorized by Title 13, Sections, 131, 141, 161, 181, 182, 193, and 301. Data collection from the Panel for surveys sponsored by other agencies is authorized by 13 U.S.C. 8(b), where the Census Bureau is the collection agent, and the various U.S. Code titles that authorize those agencies to collect information. The confidentiality of information collected on topical surveys in this Panel is assured by Title 13, United States Code.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2023-02470 Filed 2-3-23; 8:45 am]

BILLING CODE 3510-07-P